COMMITTEE FOR PURCHASE FROM PEOPLE WHO ARE BLIND OR SEVERELY DISABLED

Procurement List Additions and Deletions

AGENCY: Committee for Purchase from People Who are Blind or Severely Disabled.

ACTION: Additions to and Deletions from the Procurement List.

SUMMARY: This action adds products and services to the Procurement List that will be furnished by nonprofit agencies employing persons who are blind or have other severe disabilities, and deletes services from the Procurement List previously provided by such agencies.

DATES: Effective: September 30, 2013.

ADDRESSES: Committee for Purchase From People Who Are Blind or Severely Disabled, 1401 S Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 7/8/2013 (78 FR 40727-40728) and 7/12/2013 (78 FR 41915-41916), the Committee for Purchase From People Who Are Blind or Severely Disabled published notices of proposed additions to the Procurement List.

After consideration of the material presented to it concerning capability of qualified nonprofit agencies to furnish the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: MR 546—Sponge, All-Purpose, Nylon Mesh, Large

NPA: New York City Industries for the Blind, Inc., Brooklyn, NY

Contracting Activity: Defense Commissary Agency, Fort Lee, VA

COVERAGE: C-List for the requirements of military commissaries and exchanges as aggregated by the Defense Commissary Agency.

Towel, Hazardous Material Absorbent, Cotton, Red

NSN: 4235-01-526-4342 -15″ × 15″

NPA: Winston-Salem Industries for the Blind, Inc., Winston-Salem, NC

Contracting Activity: Defense Logistics Agency Aviation, Richmond, VA

COVERAGE: B-List for the Broad Government Requirement as aggregated by the Defense Logistics Agency Aviation, Richmond, VA.

Services

Service Type/Location: Janitorial Service, Customs and Border Protection, Brown Field Air Unit, 7685 Pogo Row, San Diego, CA.

NPA: Job Options, Inc., San Diego, CA

Contracting Activity: U.S. Customs and Border Protection, Aviation, Maritime & Border Technologies Contracting Division, Washington, DC

Service Type/Location: Chemical Latrine Service, NAVFAC-EFA-NW., 1101 Tautog Circle, Silverdale, WA

NPA: Skookum Educational Programs, Bremerton, WA

Contracting Activity: Dept. of the Navy, NAVFAC Northwest, Silverdale, WA

Service Type/Location: Vehicle Marshaling Service, GSA Rocky Mountain Region, Rapid City, SD.

NPA: BH Services, Inc., Ellsworth AFB, SD

Contracting Activity: Federal Acquisition Service, GSA/FSS Regional Fleet Mgt Office, Fort Worth, TX

Deletions

On 7/19/2013 (78 FR 43180), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Type/Location: Industrial Laundry Service, Bureau of Engraving and Printing, 9000 Blue Mound Road, Fort Worth, TX

NPA: Goodwill Industrial Services of Fort Worth, Inc., Fort Worth, TX

Contracting Activity: Dept. of Treasury, Bureau of Engraving and Printing, Washington DC

Service Types/Location: Mailroom/Communications Center Operation Administrative Service, Department of Agriculture, Farm Service Agency, 6501 Beacon Drive, Kansas City, MO.

NPA: JobOne, Independence, MO

Contracting Activity: Dept. of Agriculture, Farm Service Agency, Kansas City Acquisition Branch, Kansas City, MO

Barry S. Lineback,
Director, Business Operations.

[FR Doc. 2013-21354 Filed 8-29-13; 8:45 am]

BILLING CODE 6353-01-P